DEPARTMENT OF THE INTERIOR

Fish and Wildlife Service

[FWS-R4-ES-2025-N016; FXES11130400000-256-FF04E00000]

Endangered and Threatened Wildlife and Plants; Initiation of 5-Year Status Reviews for 66 Southeastern Species

AGENCY: Fish and Wildlife Service, Interior.

ACTION: Notice of initiation of reviews; request for information.

SUMMARY: We, the U.S. Fish and Wildlife Service, are initiating 5-year status reviews under the Endangered Species Act for 66 animal and plant species. A 5-year review is an assessment of the best scientific and commercial data available at the time of the review to ensure the accuracy of the species' classification as endangered or threatened. We are requesting submission of any such information that has become available since the previous status review for each species.

DATES: To ensure consideration of your information in our reviews, we must receive your comments or information on or before January 26, 2026. However, we will continue to accept new information about any of the species at any time.

ADDRESSES: For instructions on how to submit information for a species, see table 1 in the SUPPLEMENTARY INFORMATION section.

FOR FURTHER INFORMATION CONTACT: To request information on specific species, contact the appropriate person in the table in the SUPPLEMENTARY INFORMATION section or, for general information, contact Bradly Potter, via phone at 517-643-7965, via email at bradly_potter@fws.gov, or via U.S. mail at U.S. Fish and Wildlife Service, 1875 Century Boulevard, Atlanta, GA 30345. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, are initiating 5-year status reviews under the Endangered Species Act of 1973, as amended (ESA; 16 U.S.C. 1531 et seq.), for 34 animal species and 32 plant species. A 5-year status review is based on the best scientific and commercial data available at the time of the review. Therefore, we are requesting submission of any such information that has become available since the last review for the species, particularly information on the status, threats, and recovery of the species.

Why do we conduct a 5-year review?

Under the ESA, we maintain Lists of Endangered and Threatened Wildlife and Plants (which we collectively refer to as the List) in title 50 of the Code of Federal Regulations (CFR) at 50 CFR 17.11 (for wildlife) and 50 CFR 17.12 (for plants). Section 4(c)(2)(A) of the ESA requires us to review each listed species' status at least once every 5 years. Our regulation at 50 CFR 424.21 requires that we publish a notice in the Federal Register announcing that a species is under active review; however, we may review the status of the species at any time based upon a petition or other information available to us. For additional information about 5-year reviews, refer to our fact sheet at https://www.fws.gov/project/five-year-status-reviews.

What information do we consider in our review?

A 5-year review considers the best scientific and commercial data that have become available since the current listing determination or most recent status review of each species, such as:

(A) Species biology, including but not limited to population trends, distribution, abundance, demographics, habitat requirements, tolerance thresholds, and genetics;

(B) Habitat conditions, including but not limited to amount, distribution, and suitability;

(C) Conservation measures that have been or are planned to be implemented to benefit the species;

(D) Current threats and trends in relation to the five listing factors (as defined in section 4(a)(1) of the ESA (16 U.S.C. 1533(a)(1)); and

(E) Other new information, data, or corrections, including but not limited to taxonomic or nomenclatural changes, identification of erroneous information contained in the List, and improved analytical methods.

New information will be considered in the 5-year review and ongoing recovery programs for the species.

Which species are under review?

This notice announces 5-year status reviews for the species listed in table 1.

Table 1—Species Under Review
Common name | Scientific name | Taxonomic group | Listing status (see note) | Locations where the species is known to occur | Final listing rule (Federal Register citation and publication date) | Contact person, email, phone | Contact's mailing address
Animals
Neuse River waterdog | Necturus lewisi | Amphibian | T | NC | 86 FR 30688; 6/9/2021 | Jennifer Archambault, Raleigh_ES@fws.gov, 984-308-0799 | USFWS, P.O. Box 33726, Raleigh, NC 27636-3726.
Dusky gopher frog | Rana sevosa (=Lithobates sevosus) | Amphibian | E | AL, MS | 66 FR 63002; 12/4/2001 | John Tupy, mississippi_field_office@fws.gov, 601-965-4900 | USFWS, 6578 Dogwood View Pkwy., Jackson, MS 39213.
Spruce-fir moss spider | Microhexura montivaga | Arachnid | E | NC, TN, VA | 60 FR 6968; 2/6/1995 | Sue Cameron, fw4esasheville@fws.gov, 828-258-3939 | USFWS, 160 Zillicoa St., Asheville, NC 28801.
Eastern black rail | Laterallus jamaicensis jamaicensis | Bird | T | AL, AR, CO, FL, GA, IN, LA, MS, NC, SC, TN, TX | 85 FR 63764; 10/8/2020 | Melissa Chaplin, charleston_recovery@fws.gov, 843-727-4707 | USFWS, 176 Croghan Spur Rd., Suite 200, Charleston, SC 29407.
Laurel dace | Chrosomus saylori | Fish | E | TN | 76 FR 48722; 8/9/2011 | Anthony Ford, Cookeville@fws.gov, 931-528-6481 | USFWS, 446 Neal Street, Cookeville, TN 38501.
Blue shiner | Cyprinella caerulea | Fish | T | AL, GA, TN | 57 FR 14786; 4/22/1992 | Scott Glassmeyer, GAES_Assistance@FWS.gov, 706-613-9493 | USFWS, RG Stephens, Jr. Federal Building, 355 East Hancock Ave., Room 320, Box 7, Athens, GA 30601.
Slender chub | Erimystax cahni | Fish | T | TN, VA | 42 FR 45526; 9/9/1977 | Anthony Ford, Cookeville@fws.gov, 931-528-6481 | USFWS, 446 Neal Street, Cookeville, TN 38501.
Etowah darter | Etheostoma etowahae | Fish | E | GA | 59 FR 65505; 12/20/1994 | Eric Prowell, GAES_Assistance@fws.gov, 706-613-9493 | USFWS, RG Stephens, Jr. Federal Building, 355 East Hancock Ave., Room 320, Box 7, Athens, GA 30601.
Duskytail darter | Etheostoma percnurum | Fish | E | KY, TN, VA | 58 FR 25758; 4/27/1993 | Anthony Ford, Cookeville@fws.gov, 931-528-6481 | USFWS, 446 Neal Street, Cookeville, TN 38501.
Cherokee darter | Etheostoma scotti | Fish | T | GA | 59 FR 65505; 12/20/1994 | Eric Prowell, GAES_Assistance@fws.gov, 706-613-9493 | USFWS, RG Stephens, Jr. Federal Building, 355 East Hancock Ave., Room 320, Box 7, Athens, GA 30601.
Palezone shiner | Notropis albizonatus | Fish | E | AL, KY | 58 FR 25758; 4/27/1993 | Michael Floyd, kentuckyes@fws.gov, 502-229-5433 | USFWS, 330 W Broadway, Ste. 265, Frankfort, KY 40601.
Carolina madtom | Noturus furiosus | Fish | E | NC | 86 FR 30688; 6/9/2021 | Jennifer Archambault, Raleigh_ES@fws.gov, 984-308-0799 | USFWS, P.O. Box 33726, Raleigh, NC 27636-3726.
Amber darter | Percina antesella | Fish | E | GA, TN | 50 FR 31597; 8/5/1985 | Martha Zapata, GAES_Assistance@FWS.gov, 706-613-9493 | USFWS, RG Stephens, Jr. Federal Building, 355 East Hancock Ave., Room 320, Box 7, Athens, GA 30601.
Goldline darter | Percina aurolineata | Fish | T | AL, GA, TN | 57 FR 14786; 4/22/1992 | Scott Glassmeyer, GAES_Assistance@FWS.gov, 706-613-9493 | USFWS, RG Stephens, Jr. Federal Building, 355 East Hancock Ave., Room 320, Box 7, Athens, GA 30601.
Schaus swallowtail butterfly | Heraclides aristodemus ponceanus | Insect | E | FL | 49 FR 34501; 8/31/1984 | Nikki Colangelo, Florida_5YR@fws.gov, 772-226-8138 | USFWS, 777 37th St., Suite D-101, Vero Beach, FL 32960.
Key Largo cotton mouse | Peromyscus gossypinus allapaticola | Mammal | E | FL | 49 FR 34504; 8/31/1984 | Nikki Colangelo, Florida_5YR@fws.gov, 772-226-8138 | USFWS, 777 37th St., Suite D-101, Vero Beach, FL 32960.
Perdido Key beach mouse | Peromyscus polionotus trissyllepsis | Mammal | E | AL, FL | 50 FR 23872; 6/6/1985 | Nikki Colangelo, Florida_5YR@fws.gov, 772-226-8138 | USFWS, 777 37th St., Suite D-101, Vero Beach, FL 32960.
Tan riffleshell | Epioblasma florentina walkeri (=E. walkeri) | Mussel | E | KY, TN, VA, WV | 42 FR 42351; 8/23/1977 | Anthony Ford, Cookeville@fws.gov, 931-528-6481 | USFWS, 446 Neal Street, Cookeville, TN 38501.
Southern combshell | Epioblasma (=Dysnomia) penita | Mussel | E | AL, MS | 52 FR 11162; 4/7/1987 | Matt Wagner, mississippi_field_office@fws.gov, 601-965-4900 | USFWS, 6578 Dogwood View Pkwy., Jackson, MS 39213.
Shiny pigtoe | Fusconaia cor | Mussel | E | AL, KY, TN, VA | 41 FR 24062; 6/14/1976 | Anthony Ford, Cookeville@fws.gov, 931-528-6481 | USFWS, 446 Neal Street, Cookeville, TN 38501.
Speckled pocketbook | Lampsilis streckeri | Mussel | E | AR | 54 FR 8339; 2/28/1989 | Chris Davidson, arkansas-es_recovery@fws.gov, 501-513-4481 | USFWS, 110 South Amity Road, Suite 300, Conway, AR 72032.
Tar River spinymussel | Parvaspina steinstansana | Mussel | E | NC | 50 FR 26572; 6/27/1985 | Jennifer Archambault, Raleigh_ES@fws.gov, 984-308-0799 | USFWS, P.O. Box 33726, Raleigh, NC 27636-3726.
Black clubshell | Pleurobema curtum | Mussel | E | MS | 52 FR 11162; 4/7/1987 | Matt Wagner, mississippi_field_office@fws.gov, 601-965-4900 | USFWS, 6578 Dogwood View Pkwy., Jackson, MS 39213.
Georgia pigtoe | Pleurobema hanleyianum | Mussel | E | AL, GA, TN | 75 FR 67512; 11/2/2010 | Jeff Powell, alabama@fws.gov, 251-441-5181 | USFWS, 1208B Main Street, Daphne, AL 36526.
Rough pigtoe | Pleurobema plenum | Mussel | E | IL, IN, KY, TN, VA | 41 FR 24062; 6/14/1976 | Taylor Fagin, kentuckyes@fws.gov, 502-653-0541 | USFWS, 330 W Broadway, Ste. 265, Frankfort, KY 40601.
Heavy pigtoe | Pleurobema taitianum | Mussel | E | AL, MS | 52 FR 11162; 4/7/1987 | Jeff Powell, alabama@fws.gov, 251-441-5181 | USFWS, 1208B Main Street, Daphne, AL 36526.
Slabside pearlymussel | Pleuronaia dolabelloides | Mussel | E | AL, MS, TN, VA | 78 FR 59269; 9/26/2013 | Anthony Ford, Cookeville@fws.gov, 931-431-2485 | USFWS, 446 Neal Street, Cookeville, TN 38501.
Fluted kidneyshell | Ptychobranchus subtentus | Mussel | E | AL, KY, TN, VA | 78 FR 59269; 9/26/2013 | Anthony Ford, Cookeville@fws.gov, 931-528-6481 | USFWS, 446 Neal Street, Cookeville, TN 38501.
Cumberland monkeyface (pearlymussel) | Theliderma intermedia | Mussel | E | KY, TN, VA | 41 FR 24062; 6/14/1976 | Anthony Ford, Cookeville@fws.gov, 931-528-6481 | USFWS, 446 Neal Street, Cookeville, TN 38501.
Pale lilliput (pearlymussel) | Toxolasma cylindrellus | Mussel | E | AL, TN | 41 FR 24062; 6/14/1976 | Jeff Powell, alabama@fws.gov, 251-441-5181 | USFWS, 1208B Main Street, Daphne, AL 36526.
Mona boa | Epicrates monensis monensis | Reptile | T | PR | 43 FR 4618; 2/3/1978 | Jan Zegarra, caribbean_es@fws.gov, 786-244-0081 | USFWS, P.O. Box 491, Boquerón, PR 00622.
Blue-tailed mole skink | Eumeces egregius lividus | Reptile | T | FL | 52 FR 42658; 11/6/1987 | Nikki Colangelo, Florida_5YR@fws.gov, 772-226-8138 | USFWS, 777 37th St., Suite D-101, Vero Beach, FL 32960.
Alabama red-bellied turtle | Pseudemys alabamensis | Reptile | E | AL, MS | 52 FR 22939; 6/16/1987 | Luke Pearson, mississippi_field_office@fws.gov, 601-965-4900 | USFWS, 6578 Dogwood View Pkwy., Jackson, MS 39213.
Stock Island tree snail | Orthalicus reses (not incl. nesodryas) | Snail | T | FL | 43 FR 28932; 7/3/1978 | Nikki Colangelo, Florida_5YR@fws.gov, 772-226-8138 | USFWS, 777 37th St., Suite D-101, Vero Beach, FL 32960.
Plants
No common name | Thelypteris inabonensis | Fern | E | PR | 58 FR 35887; 7/2/1993 | Marielle Peschiera, caribbean_es@fws.gov, 786-244-0081 | USFWS, P.O. Box 491, Boquerón, PR 00622.
Alabama streak-sorus fern | Thelypteris pilosa var. alabamensis | Fern | T | AL | 57 FR 30164; 7/8/1992 | Jeff Powell, alabama@fws.gov, 251-441-5181 | USFWS, 1208B Main Street, Daphne, AL 36526.
No common name | Thelypteris verecunda | Fern | E | PR | 58 FR 35887; 7/2/1993 | Marielle Peschiera, caribbean_es@fws.gov, 786-244-0081 | USFWS, P.O. Box 491, Boquerón, PR 00622.
No common name | Thelypteris yaucoensis | Fern | E | PR | 58 FR 35887; 7/2/1993 | Marielle Peschiera, caribbean_es@fws.gov, 786-244-0081 | USFWS, P.O. Box 491, Boquerón, PR 00622.
No common name | Agave eggersiana | Flowering Plant | E | VI | 79 FR 53303; 9/9/2014 | Maritza Vargas, caribbean_es@fws.gov, 786-244-0081 | USFWS, P.O. Box 491, Boquerón, PR 00622.
Georgia rockcress | Arabis georgiana | Flowering Plant | T | AL, GA | 79 FR 54627; 9/12/2014 | Michele Elmore, GAES_Assistance@FWS.gov, 706-613-9493 | USFWS, RG Stephens, Jr. Federal Building, 355 East Hancock Ave., Room 320, Box 7, Athens, GA 30601.
Capá rosa | Callicarpa ampla | Flowering Plant | E | PR | 57 FR 14782; 4/22/1992 | Pablo Torres, caribbean_es@fws.gov, 786-244-0081 | USFWS, P.O. Box 491, Boquerón, PR 00622.
Okeechobee gourd | Cucurbita okeechobeensis ssp. okeechobeensis | Flowering Plant | E | FL | 58 FR 37432; 7/12/1993 | Nikki Colangelo, Florida_5YR@fws.gov, 772-226-8138 | USFWS, 777 37th St., Suite D-101, Vero Beach, FL 32960.
Smooth coneflower | Echinacea laevigata | Flowering Plant | T | GA, NC, SC, VA | 57 FR 46340; 10/8/1992 | Jennifer Archambault, Raleigh_ES@fws.gov, 984-308-0799 | USFWS, P.O. Box 33726, Raleigh, NC 27636-3726.
Snakeroot | Eryngium cuneifolium | Flowering Plant | E | FL | 52 FR 2227; 1/21/1987 | Nikki Colangelo, Florida_5YR@fws.gov, 772-226-8138 | USFWS, 777 37th St., Suite D-101, Vero Beach, FL 32960.
Telephus spurge | Euphorbia telephioides | Flowering Plant | T | FL | 57 FR 19813; 5/8/1992 | Nikki Colangelo, Florida_5YR@fws.gov, 772-226-8138 | USFWS, 777 37th St., Suite D-101, Vero Beach, FL 32960.
No common name | Gonocalyx concolor | Flowering Plant | E | PR | 79 FR 53303; 9/9/2014 | Desiree Nieves-Canabal, caribbean_es@fws.gov, 786-244-0081 | USFWS, P.O. Box 491, Boquerón, PR 00622.
No common name | Ilex sintenisii | Flowering Plant | E | PR | 57 FR 14782; 4/22/1992 | Jose Cruz-Burgos, caribbean_es@fws.gov, 786-244-0081 | USFWS, P.O. Box 491, Boquerón, PR 00622.
Fleshy-fruit gladecress | Leavenworthia crassa | Flowering Plant | E | AL | 79 FR 44712; 8/1/2014 | Jeff Powell, alabama@fws.gov, 251-441-5181 | USFWS, 1208B Main Street, Daphne, AL 36526.
Scrub blazingstar | Liatris ohlingerae | Flowering Plant | E | FL | 54 FR 31190; 7/27/1989 | Nikki Colangelo, Florida_5YR@fws.gov, 772-226-8138 | USFWS, 777 37th St., Suite D-101, Vero Beach, FL 32960.
Rough-leaved loosestrife | Lysimachia asperulaefolia | Flowering Plant | E | NC, SC | 52 FR 22585; 6/12/1987 | Jennifer Archambault, Raleigh_ES@fws.gov, 984-308-0799 | USFWS, P.O. Box 33726, Raleigh, NC 27636-3726.
Papery whitlow-wort | Paronychia chartacea | Flowering Plant | T | FL | 52 FR 2227; 1/21/1987 | Nikki Colangelo, Florida_5YR@fws.gov, 772-226-8138 | USFWS, 777 37th St., Suite D-101, Vero Beach, FL 32960.
Short's bladderpod | Physaria globosa | Flowering Plant | E | IN, KY, TN | 79 FR 44712; 8/1/2014 | Anthony Ford, Cookeville@fws.gov, 931-528-6481 | USFWS, 446 Neal Street, Cookeville, TN 38501.
Lewton's polygala | Polygala lewtonii | Flowering Plant | E | FL | 58 FR 25746; 4/27/1993 | Nikki Colangelo, Florida_5YR@fws.gov, 772-226-8138 | USFWS, 777 37th St., Suite D-101, Vero Beach, FL 32960.
Wireweed | Polygonella basiramia | Flowering Plant | E | FL | 52 FR 2227; 1/21/1987 | Nikki Colangelo, Florida_5YR@fws.gov, 772-226-8138 | USFWS, 777 37th St., Suite D-101, Vero Beach, FL 32960
Sandlace | Polygonella myriophylla | Flowering Plant | E | FL | 58 FR 25746; 4/27/1993 | Nikki Colangelo, Florida_5YR@fws.gov, 772-226-8138 | USFWS, 777 37th St., Suite D-101, Vero Beach, FL 32960.
Michaux's sumac | Rhus michauxii | Flowering Plant | E | AL, GA, NC, SC, VA | 54 FR 39853; 9/28/1989 | Jennifer Archambault, Raleigh_ES@fws.gov, 984-308-0799 | USFWS, P.O. Box 33726, Raleigh, NC 27636-3726.
Mountain sweet pitcher-plant | Sarracenia rubra ssp. jonesii | Flowering Plant | E | NC, SC | 53 FR 38470; 9/30/1988 | Gary Peeples, fw4esasheville@fws.gov, 828-258-3939 | USFWS, 160 Zillicoa St., Asheville, NC 28801.
Fringed campion | Silene polypetala | Flowering Plant | E | AL, FL, GA | 56 FR 1932; 1/18/1991 | Michele Elmore, GAES_Assistance@FWS.gov, 706-613-9493 | USFWS, RG Stephens, Jr. Federal Building, 355 East Hancock Ave., Room 320, Box 7, Athens, GA 30601.
Cóbana negra | Stahlia monosperma | Flowering Plant | T | PR | 55 FR 12790; 4/5/1990 | Jose Martinez, caribbean_es@fws.gov, 786-244-0081 | USFWS, P.O. Box 491, Boquerón, PR 00622.
Palo de jazmín | Styrax portoricensis | Flowering Plant | E | PR | 57 FR 14782; 4/22/1992 | Pablo Torres, caribbean_es@fws.gov, 786-244-0081 | USFWS, P.O. Box 491, Boquerón, PR 00622.
Palo colorado | Ternstroemia luquillensis | Flowering Plant | E | PR | 57 FR 14782; 4/22/1992 | Jose Cruz-Burgos, caribbean_es@fws.gov, 786-244-0081 | USFWS, P.O. Box 491, Boquerón, PR 00622.
No common name | Ternstroemia subsessilis | Flowering Plant | E | PR | 57 FR 14782; 4/22/1992 | Jose Cruz-Burgos, caribbean_es@fws.gov, 786-244-0081 | USFWS, P.O. Box 491, Boquerón, PR 00622.
Persistent trillium | Trillium persistens | Flowering Plant | E | GA, SC | 43 FR 17910; 4/26/1978 | Mincy Moffett, GAES_Assistance@FWS.gov, 706-613-9493 | USFWS, RG Stephens, Jr. Federal Building, 355 East Hancock Ave., Room 320, Box 7, Athens, GA 30601.
No common name | Varronia rupicola | Flowering Plant | T | PR | 79 FR 53303; 9/9/2014 | Omar Monsegur, caribbean_es@fws.gov, 786-244-0081 | USFWS, P.O. Box 491, Boquerón, PR 00622.
Tennessee yellow-eyed grass | Xyris tennesseensis | Flowering Plant | E | AL, GA, MS, TN | 56 FR 34151; 7/26/1991 | Jeff Powell, alabama@fws.gov, 251-441-5181 | USFWS, 1208B Main Street, Daphne, AL 36526.
Florida perforate cladonia | Cladonia perforate | Lichen | E | FL | 58 FR 25746; 4/27/1993 | Nikki Colangelo, Florida_5YR@fws.gov, 772-226-8138 | USFWS, 777 37th St., Suite D-101, Vero Beach, FL 32960.
Note: E = endangered; T = threatened.

Request for New Information

To ensure that a species' 5-year review is based on the best available scientific and commercial information, we request new information from all sources. Please use the contact information that is associated with the species for which you are submitting information (see table 1). If you submit information, please support it with documentation such as maps; bibliographic references; methods used to gather and analyze the data; and/or copies of any pertinent publications, reports, or letters by knowledgeable sources.

How do I ask questions or provide information?

If you wish to provide information for any species in table 1, please submit your comments and materials to the appropriate contact in the table. You may also direct questions to those contacts. For general information, contact the person listed in the FOR FURTHER INFORMATION CONTACT section.

Public Availability of Comments

Before including your address, phone number, email address, or other personal identifying information in your submission, you should be aware that your entire submission—including your personal identifying information—may be made publicly available at any time. Although you can request that personal information be withheld from public review, we cannot guarantee that we will be able to do so.

Completed and Active Reviews

A list of all completed and currently active 5-year status reviews can be found at https://ecos.fws.gov/ecp/report/species-five-year-review.

Authority

This document is published under the authority of the Endangered Species Act of 1973, as amended (16 U.S.C. 1531 et seq.).

Michael Oetker,
Regional Director, Southeast Region, U.S. Fish and Wildlife Service.

[FR Doc. 2025-21041 Filed 11-24-25; 8:45 am]

BILLING CODE 4333-15-P